FEDERAL RESERVE SYSTEM

Change in Bank Control Notices; Acquisitions of Shares of a Savings and Loan Holding Company

The notificants listed below have applied under the Change in Bank Control Act (“Act”) (12 U.S.C. 1817(j)) and of the Board's Regulation LL (12 CFR 238.31) to acquire shares of a savings and loan holding company. The factors that are considered in acting on the notices are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than April 11, 2023.

A. Federal Reserve Bank of Minneapolis (Stephanie Weber, Assistant Vice President) 90 Hennepin Avenue, Minneapolis, Minnesota 55480-0291. Comments can also be sent electronically to MA@mpls.frb.org:

1. Sally A. Farrar, Arkansaw, Wisconsin; Arthur Turner, Lauderdale, Minnesota; Reid Turner, Iowa City, Iowa; and Mary S. Farrar Turner and Frank Turner, both of Pierre, South Dakota; to retain voting shares of Beresford Bancorporation, Inc., Britton, South Dakota, and thereby indirectly retain voting shares of First Savings Bank, Beresford, South Dakota, as part of a group acting in concert that includes the Frank L. Farrar Dynasty Trust II, the Frank L. Farrar and Patricia J. Farrar 2022 Irrevocable Trust, Robert Farrar as trustee of the trusts and individually, all of Britton, South Dakota; Jeanne Farrar Orfield and Samuel Farrar Orfield, Minneapolis, Minnesota; and Anne M. Farrar, St. Paul, Minnesota.

Board of Governors of the Federal Reserve System.
Michele Taylor Fennell,
Deputy Associate Secretary of the Board.

[FR Doc. 2023-06283 Filed 3-24-23; 8:45 am]

BILLING CODE P